DEPARTMENT OF AGRICULTURE

Office of the Secretary

USDA Reassigns Domestic Cane Sugar Allotments and Increases the Fiscal Year 2010 Raw Sugar Tariff-Rate Quota

AGENCY: Office of the Secretary, USDA.

ACTION: Notice.

SUMMARY: The Secretary of Agriculture today announced a reassignment of surplus sugar under domestic cane sugar allotments of 300,000 short tons raw value (STRV) to imports, and increased the fiscal year (FY) 2010 raw sugar tariff-rate quota (TRQ) by the same amount.

DATES: Effective Date: July 6, 2010.

FOR FURTHER INFORMATION CONTACT: Angel F. Gonzalez, Import Policies and Export Reporting Division, Foreign Agricultural Service, AgStop 1021, U.S. Department of Agriculture, Washington, DC 20250-1021; or by telephone (202) 720-2916; or by fax to (202) 720-0876; or by e-mail to: angel.f.gonzalez@fas.usda.gov.

SUPPLEMENTARY INFORMATION: USDA's Commodity Credit Corporation (CCC) today announced the reassignment of projected surplus cane sugar marketing allotments and allocations under the FY 2010 (October 1, 2009-September 30, 2010) Sugar Marketing Allotment Program. The FY 2010 cane sector allotment and cane State allotments are larger than can be fulfilled by domestically produced cane sugar. This surplus was reassigned to raw sugar imports as required by law. Upon review of the domestic sugarcane processors' sugar marketing allocations relative to their FY 2010 expected raw sugar supplies, CCC determined that all sugarcane processors had surplus allocation. Therefore, all sugarcane States' sugar marketing allotments are reduced with this reassignment. The new cane State allotments are Florida, 1,796,451 STRV; Louisiana, 1,575,563 STRV; Texas, 142,777 STRV; and Hawaii, 201,101 STRV. The FY 2010 Sugar Marketing Allotment Program will not prevent any domestic sugarcane processors from marketing all of their FY 2010 sugar supply.

On September 25, 2009, USDA established the FY 2010 TRQ for raw cane sugar at 1,231,497 STRV (1,117,195 metric tons raw value, MTRV*), the minimum to which the United States is committed under the World Trade Organization Uruguay Round Agreements. On April 27, 2010, the Secretary increased the FY 2010 TRQ for raw cane sugar by 200,000 STRV (181,437 MTRV) to a total of 1,431,497 STRV (1,298,632 MTRV).

Pursuant to Additional U.S. Note 5 to Chapter 17 of the U.S. Harmonized Tariff Schedule (HTS) and Section 359(k) of the Agricultural Adjustment Act of 1938, as amended, the Secretary of Agriculture today increased the quantity of raw cane sugar imports of the HTS subject to the lower tier of duties during FY 2010 by 300,000 STRV (272,155 MTRV). With this increase, the overall FY 2010 raw sugar TRQ is now 1,731,497 STRV (1,570,787 MTRV). Raw cane sugar under this quota must be accompanied by a certificate for quota eligibility and may be entered under subheading 1701.11.10 of the HTS until September 30, 2010. The Office of the U.S. Trade Representative will allocate this increase among supplying countries and customs areas.

This action is being taken after a determination that additional supplies of raw cane sugar are required in the U.S. market. USDA will closely monitor stocks, consumption, imports and all sugar market and program variables on an ongoing basis, and may make further program adjustments during FY 2010 if needed.

* Conversion factor: 1 metric ton = 1.10231125 short tons.

Dated: June 29, 2010.
Tom Vilsack,
Secretary of Agriculture.

[FR Doc. 2010-16348 Filed 7-2-10; 8:45 am]

BILLING CODE 3410-10-P